DEPARTMENT OF JUSTICE

Notice of Lodging of Consent Decree Pursuant to the Clean Water Act

Notice is hereby given that on January 19, 2010, a proposed Consent Decree in United States v. Magellan Pipeline Company LP, No. 10-CV-28-CVE-FHM, was lodged with the United States Court for the Northern District of Oklahoma.

In this action, the United States sought the penalties pursuant to Section 311 of the Clean Water Act, 33 U.S.C. 1321 against Magellan Pipeline Company, LP. The Complaint alleges that a discharge of gasoline occurred in Oologah, Oklahoma on January 5, 2008 from a pipeline owned and operated by Defendant Magellan. Pursuant to the proposed Consent Decree, the Settling Defendants will pay to the United States a civil penalty of $418,000 for the discharge. The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Magellan Pipeline Company, (N.D. Okla.) No. 10-CV-28-CVE-FHM, D.J. Ref. 90-5-1-1-09674.

During the public comment period, the Consent Decree may be examined at the Office of the United States Attorney, Northern District of Oklahoma, 110 W. 7th Street, Suite 300, Tulsa, OK 74119. The Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $3.75 (25 cents per page reproduction cost) payable to the U.S. Treasury.

Maureen Katz,
Assistant Section Chief.

[FR Doc. 2010-3318 Filed 2-19-10; 8:45 am]

BILLING CODE 4410-15-P